DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Ready Responders Program Application—New

The HRSA National Health Service Corps (NHSC) Ready Responder Program is comprised of an elite cadre of Commissioned Corps officers. These officers are assigned to practice in NHSC-approved clinical sites located throughout the country within eligible Health Professional Shortage Areas. The purpose of the program is to increase access to primary care services in underserved communities and to assist sites in their efforts to recruit providers and become self-sustaining. In addition to providing direct patient care at the site where the officer is stationed, each Ready Responder typically works with the sites to develop various programs and activities such as emergency preparedness and response, patient education, staff development, staff recruitment, and sound business practices. Moreover, they are specially trained to deploy in the event of a local, regional, and national emergency.

This application will be used by NHSC sites to request the assignment of a NHSC Ready Responder. The document requires the applicant to describe the needs in their community and at their respective sites. The application also asks the site to describe the roles and responsibilities of the prospective Ready Responder. Completed applications will be collected and reviewed by NHSC staff.

The estimated annual burden is as follows:

Form | Number of respondents | Responses per respondent | Total responses | Hours per response | Total burden hours
Application | 155 | 1 | 155 | 2.5 | 387.50
Total | 155 | 1 | 155 | 2.5 | 387.50

E-mail comments to paperwork@hrsa.gov or mail the HRSA Reports Clearance Officer, Room 10-33, Parklawn Building, 5600 Fishers Lane, Rockville, MD 20857. Written comments should be received within 60 days of this notice.

Dated: July 29, 2009.
Alexandra Huttinger,
Director, Division of Policy Review and Coordination.

[FR Doc. E9-18812 Filed 8-5-09; 8:45 am]

BILLING CODE 4165-15-P